DEPARTMENT OF AGRICULTURE

Animal and Plant Health Inspection Service

7 CFR Part 319

[Docket No. 98-110-2]

RIN 0579-AB11

Importation of Gypsy Moth Host Material From Canada

AGENCY: Animal and Plant Health Inspection Service, USDA.

ACTION: Final rule.

SUMMARY: We are adopting as a final rule, with minor changes discussed in this document, an interim rule that established regulations for the importation into the United States of gypsy moth host materials from Canada due to infestations of gypsy moth in the Provinces of British Columbia, New Brunswick, Nova Scotia, Ontario, and Quebec. The rule requires trees without roots (e.g., Christmas trees), trees with roots, shrubs with roots and persistent woody stems, logs and pulpwood with bark attached, outdoor household articles, and mobile homes and their associated equipment to meet specified certification or destination requirements if they are intended to be moved into or through areas of the United States that are not infested with gypsy moth. This action is necessary to prevent the introduction of gypsy moth into noninfested areas of the United States.

EFFECTIVE DATE: June 20, 2000.

FOR FURTHER INFORMATION CONTACT: Ms. Coanne O'Hern, Operations Officer, Invasive Species and Pest Management, PPQ, APHIS, 4700 River Road Unit 134, Riverdale, MD 20737-1236; (301) 734-8247.

SUPPLEMENTARY INFORMATION:

Background

The gypsy moth, Lymantria dispar (Linnaeus), is a destructive pest of forest and shade trees. The Animal and Plant Health Inspection Service (APHIS) has regulated the interstate movement of gypsy moth host materials from areas of the United States that are generally infested with gypsy moth through its domestic quarantine notices (see 7 CFR 301.45 through 301.45-12), but had not, until the publication of an August 23, 1999, interim rule, established specific regulations in our foreign quarantine notices regarding the importation into the United States of gypsy moth host materials from foreign countries.

In an interim rule effective and published in the Federal Register on August 23, 1999 (64 FR 45860-45868, Docket No. 98-110-1), we established a new “Subpart—Gypsy Moth Host Material from Canada” (§§ 319.77-1 through 319.77-5) in 7 CFR part 319 to restrict the importation of gypsy moth host materials from Canada. This action was necessary to prevent the introduction of gypsy moth into noninfested areas of the United States.

We solicited comments concerning the interim rule for 60 days ending October 22, 1999. We received two comments by that date. They were from a State government and a foreign government. We have carefully considered these comments. They are discussed below, by topic.

Self-Certification of Outdoor Household Articles

One commenter expressed concern over the provision for self-certification of outdoor household articles (OHA's) moving from infested areas in Canada into the United States. The commenter asserted that self-certification will not provide an adequate level of protection against the introduction of gypsy moth into the United States because the average person will not know what a gypsy moth egg mass or other life stage looks like and, therefore, cannot be expected to certify an OHA as pest free.

APHIS has published a pamphlet called “Don't Move Gypsy Moth,” which is updated regularly and is given to mover associations and national moving companies for distribution to households and individuals moving from gypsy moth infested areas to noninfested areas. The pamphlet contains color photographs of all gypsy moth lifestages and provides detailed information on gypsy moth and the damage it causes. Included in the pamphlet is a checklist of OHA's to inspect for possible gypsy moth infestation.

APHIS realizes that there are additional needs for the gypsy moth awareness campaign and is in the process of determining what types of information should be made available to the public. In the meantime, we are distributing the “Don't Move Gypsy Moth” pamphlet to persons crossing the U.S.-Canada border, and are inspecting OHA's that have not been self-certified and spot-checking self-certifications.

Another commenter requested a phase-in period for the self-certification of OHA's. The commenter stated that a phase-in period would allow for the notification of moving companies, brokers, the business sector, and others and would, therefore, facilitate compliance with the regulations.

APHIS recognized the need to allow time for notifying moving companies, brokers, the business sector, and others of the self-certification requirements of our rule. Between the effective date of the interim rule (August 23, 1999) and January 1, 2000, persons arriving at the U.S.-Canada border with OHA's that were not self-certified were not turned away or penalized in any way. Instead, we used the opportunity to educate movers and individual travelers on the new self-certification requirements in order to facilitate future compliance. In addition, as noted above, we conduct spot checks to ensure self-certifications are accurate.

Logs and Pulpwood From Infested Areas

One commenter suggested that APHIS should impose stricter requirements on the importation of logs or pulpwood without bark if they are from a Canadian infested area and have been stored outside for any length of time, especially during egg laying season.

Gypsy moth typically seek the shelter of the secluded recesses of the outer bark of logs, pulpwood, and trees to lay their eggs. Freshly debarked logs and pulpwood are smooth and are not likely to be used by gypsy moth as sites to lay their egg masses because they do not provide the degree of protection for egg masses that bark does.

The interim rule did not create any new restrictions on the movement of logs and pulpwood without bark because logs and pulpwood are not typically debarked until just before they are to be processed or milled, thereby almost completely eliminating the possibility that logs and pulpwood without bark will become suitable host material for gypsy moth. Further, in most cases, logs that are debarked for processing are typically stored in water baths between removal of the bark and processing to ensure that they do not dry out and become less suitable for milling and processing. As stated in our interim rule, we believe the existing restrictions on the movement of logs and pulpwood with bark are adequate to ensure that logs and pulpwood from Canadian infested areas will not disseminate gypsy moth into noninfested areas of the United States.

Movement of Regulated Articles Through Certain Noninfested Areas

One commenter stated that, in our domestic gypsy moth regulations, a small portion of the State of Maine is identified as free from gypsy moth. The commenter further stated that, for many years, the U.S. Department of Agriculture (USDA) has allowed Christmas trees, logs, and pulpwood from Canadian infested areas to move through this region to infested areas of the United States without certificates. The commenter stated that this arrangement allowed the uninterrupted movement of these articles from infested areas of Canada to infested areas of the United States and requested that we continue to allow for the uncertified movement of Christmas trees, logs, and pulpwood through this area of Maine into infested areas of the United States.

Currently, there is an area comprising the northern third of Maine that is not infested with gypsy moth. This area spans parts of the counties of Aroostock, Franklin, Oxford, Piscataquis, Penobscot, and Somerset. The commenter is correct in stating that, for many years, we have allowed Christmas trees, logs, and pulpwood to move through this area from infested areas of Canada to infested areas of the United States. APHIS conducts regular gypsy moth trapping surveys in the gypsy moth-free area, and surveys over the last several years have shown little expansion of the infested area.

We believe that shipments of Christmas trees, logs, and pulpwood from infested areas in Canada that transit noninfested areas in Maine en route to infested areas in the United States present a minimal risk of introducing gypsy moth into noninfested areas of the United States because transit distances are typically short and follow routes with low prevalence of gypsy moth host material. Also, gypsy moth egg masses that may be present in such shipments are not likely to be dislodged in transit because gypsy moths typically lay their eggs in sheltered areas of the bark of trees.

We are, therefore, adding an exception to the regulations to provide that Christmas trees, logs, and pulpwood from gypsy moth infested areas in Canada may transit the gypsy moth free area that makes up the northern part of Maine en route to a gypsy moth infested area in the United States without a phytosanitary certificate. We are taking this action because we have determined that allowing shipments of Christmas trees, logs, and pulpwood to pass through that noninfested area in Maine without a certificate does not present a significant risk of introducing gypsy moth into that noninfested area of Maine.

Listing of Infested Areas

One commenter also noted that the description of areas in Canada identified as infested by gypsy moth in the interim rule differs from descriptions maintained by the Government of Canada. The commenter asked that we amend the description of areas published in the interim rule to conform with Canada's descriptions.

We have reviewed the descriptions of infested areas maintained by Canada and agree that our descriptions should be changed to bring them into conformity with Canada's descriptions, which provide more detail. By taking this action, we are relieving restrictions on the movement of regulated articles from parts of counties in Canada that are not infested with gypsy moth that we had incorrectly identified as infested areas in our interim rule. The revised list of Canadian infested areas is set out fully in § 319.77-3 of the rule portion of this document.

Certificates of Origin

One commenter asked if the “certificate of origin” required by the interim rule for each shipment of commercial wood products from noninfested areas of Canada moving to noninfested areas of the United States is a separate document or if it may be information written on shipping documents.

“Certificate of origin” is defined in the regulations as a document issued by an official authorized by the national government of Canada that states the area in which a regulated article was produced or grown and includes any other required additional declarations. In developing the interim rule, we chose to require a “certificate of origin” to ensure that APHIS inspectors could clearly and confidently determine the origin of commercial wood products entering the United States from Canada. Upon further consideration, we believe that shipments of commercial wood products from noninfested areas of Canada need only be accompanied by an accurate certification statement providing where regulated articles were produced or grown. This final rule will allow such a statement to be attached to, or included on, the shipping documents accompanying commercial wood products from Canada.

Nonsubstantive Changes

We also have made a minor, nonsubstantive change by correcting the numbering of two paragraphs in § 319.77-4.

Therefore, for the reasons given in the interim rule and in this document, we are adopting the interim rule as a final rule, with the changes discussed in this document.

Effective Date

Pursuant to the administrative procedure provisions in 5 U.S.C. 553, we find good cause for making this rule effective less than 30 days after publication in the Federal Register. The interim rule that we are adopting in this document as a final rule, with minor changes, was effective on August 23, 1999. This final rule: (1) Makes minor changes to the description of the Canadian infested areas described in the interim rule, resulting in a decrease in their size; (2) provides that certain regulated articles may be moved from Canadian infested areas through an area in Maine that is not infested with gypsy moth to infested areas of the United States without a certificate; and (3) provides that a certification statement attached to, or included on, shipping documents may be used instead of a “certificate of origin” for commercial wood products. These changes will relieve restrictions that we no longer find necessary and, therefore, should be made effective immediately. Therefore, the Administrator of the Animal and Plant Health Inspection Service has determined that this rule should be effective upon publication in the Federal Register.

Executive Order 12866 and Regulatory Flexibility Act

This final rule has been reviewed under Executive Order 12866. The rule has been determined to be not significant for the purposes of Executive Order 12866 and, therefore, has not been reviewed by the Office of Management and Budget.

In accordance with 5 U.S.C. 604, we have prepared a final regulatory flexibility analysis, which is set out below, regarding the effects of this rule on small entities. The discussion also serves as a cost-benefit analysis. Based on the information we have, there is no basis to conclude that this rule will result in any significant economic effects on a substantial number of small entities.

This rule regulates the importation of gypsy moth host materials into the United States from Canada due to infestations of gypsy moth in the Provinces of British Columbia, New Brunswick, Nova Scotia, Ontario, and Quebec. This rule requires regulated articles—trees without roots (e.g., Christmas trees), trees with roots, shrubs with roots and persistent woody stems, logs and pulpwood with bark attached, outdoor household articles, and mobile homes and their associated equipment—to meet certain certification or destination requirements if they are to be moved from Canada into or through areas of the United States that are not infested with gypsy moth.

In our interim rule, we solicited comments on the potential effects of this action on small entities. In particular, we sought data and other information to determine the number and kinds of small entities that may incur benefits or costs from the implementation of the interim rule. We received no comments on the interim rule's initial regulatory flexibility analysis.

The United States engages in a great deal of trade in live trees, live plants, and rough wood. In 1998, the United States imported approximately $231 million worth of the type of nursery products covered by this rule and exported approximately $160 million worth of those products. In that same year, U.S. imports of rough wood, including logs, pulpwood, and wood chips, were worth approximately $141 million, while exports were worth approximately $1.8 billion.

Canada is the major source of U.S. imports of live trees, live plants, and rough wood. In 1998, Canada accounted for more than 80 percent of U.S. imports of live trees and plants and for nearly 90 percent of U.S. imports of rough wood. The Canadian provinces affected by this rule account for the vast majority of Canadian exports of live trees, live plants, and rough wood to the United States, as shown in the table below. All figures in the table are rounded to the first decimal place. Therefore, “0.0” represents imports valued at $50,000 or less. Also, for certain commodities, slight discrepancies exist between the sum of the individual province columns and the “Total for Canada” column because of differences in the data published by Statistics Canada and the U.S. Department of Commerce. It is also important to note that these values represent imports from each province, whereas the infested areas are smaller areas contained within the provinces. Thus, the values listed are conservatively high estimates provided to put into perspective the volume of potential host materials moving across the border.

1998 U.S. Imports of Live Trees, Live Plants, and Rough Wood
[In millions of U.S. dollars]
Export good | Canadian provinces with infested areas: British Columbia | Canadian provinces with infested areas: New Brunswick | Canadian provinces with infested areas: Nova Scotia | Canadian provinces with infested areas: Ontario | Canadian provinces with infested areas: Quebec | Canadian noninfested areas: Alberta | Canadian noninfested areas: Manitoba | Canadian noninfested areas: Newfoundland | Canadian noninfested areas: Northwest Territories | Canadian noninfested areas: Prince Edward Island | Canadian noninfested areas: Saskatchewan | Canadian noninfested areas: Yukon | Total U.S. imports: Total for Canada | Total U.S. imports: Total for World
60220 | 0.3 |  | 2.3 | 7.1 | 1.7 | 0.0 |  |  |  | 0.3 |  |  | 11.5 | 12.2
60230 | 0.2 | 0.0 |  | 2.2 |  |  |  |  |  |  |  |  | 2.4 | 2.4
60290 | 22.5 | 10.4 | 0.8 | 97.4 | 4.7 | 0.2 | 0.4 |  |  | 0.3 | 0.0 |  | 132.9 | 162.2
60491 | 2.5 | 14.0 | 7.6 | 1.4 | 16.6 | 0.8 |  | 0.0 |  | 0.0 | 0.0 |  | 40.6 | 54.6
440110 | 1.4 |  |  | 1.9 | 0.3 | 0.0 |  |  |  |  |  |  | 3.5 | 3.9
440121 | 20.6 | 0.0 |  | 0.8 | 0.4 |  | 0.0 |  |  |  |  |  | 21.8 | 24.2
440122 | 3.0 |  |  | 2.0 | 0.1 |  |  |  |  |  |  |  | 5.0 | 5.5
440320 | 44.7 | 8.9 | 1.7 | 5.6 | 1.6 | 5.5 | 0.0 |  | 0.1 | 0.1 | 0.6 |  | 66.8 | 73.9
440341 |  |  |  |  |  |  |  |  |  |  |  |  |  | 0.0
440349 |  |  |  |  |  |  |  |  |  |  |  |  |  | 0.6
440391 |  | 0.0 |  | 0.7 | 0.0 |  |  |  |  |  |  |  | 0.7 | 1.6
440392 |  |  |  |  |  |  |  |  |  |  |  |  | 0.0 | 0.2
440399 | 1.0 | 3.2 | 0.7 | 23.3 | 1.6 | 0.0 | 0.4 |  |  |  | 0.1 |  | 29.0 | 31.0
Notes: The six digit numbers in the “Export Good” column denote the harmonized system for classifying commodities in trade. These digits represent classes of live trees, live plants, and rough wood. The commodities included under each number are as follows:
60220, edible fruit or nut trees, shrubs, and bushes
60230, rhododendrons and azaleas, grafted or not
60290, live plants, cuttings, and slips that are not elsewhere specified
60491, foliage, branches, etc., and Christmas trees
440110, fuel wood (in logs, billets, twigs, etc.)
440121, wood in chips or particles, coniferous
440122, wood in chips or particles, nonconiferous
440320, coniferous wood in the rough, not treated
440341, light/dark meranti and meranti bakau in the rough
440349, other tropical wood in the rough, with or without bark (or roughly squared) and not treated
440391, oak wood in the rough, not treated
440392, beech wood in the rough, not treated
440399, nonconiferous wood in the rough, not treated, that is not elsewhere specified
The symbol “—” means that no imports occurred.

Given the destructive potential of gypsy moth, as well as the vast forest resources in the United States, it is likely that the further spread of that pest in the United States as a result of the unrestricted movement of gypsy moth host material from infested areas in Canada would negatively affect the United States. The likely negative effects would include growth loss in timber; fewer visitors and loss of revenues in recreation areas; costs of increased Federal, State, and local government control activities against gypsy moth; and costs to landowners.

Over the 5 years preceding the interim rule, APHIS alone spent more than $30 million on gypsy moth control, eradication, regulatory, and survey activities. In fiscal year 1998, State and local government agencies in Oregon, Utah, and Washington, which are noninfested States, spent more than $1 million to eradicate gypsy moth infestations to prevent this pest from becoming established in those States.

Entities Affected

As a result of this rule, trees without roots (e.g., Christmas trees), trees with roots, and shrubs with roots and persistent woody stems (unless greenhouse-grown throughout the year) that are being moved from Canadian infested areas into or through U.S. noninfested areas ¹ must be accompanied by a Canadian phytosanitary certificate that includes an additional declaration confirming that the trees or shrubs have been inspected and found free of gypsy moth or treated in accordance with the regulations. If the trees or shrubs are being moved from a Canadian noninfested area into or through a U.S. noninfested area, they must be accompanied by a certification of origin stating where the trees were produced or grown in Canada. This rule also requires logs and pulpwood with bark attached that are being moved from Canadian infested areas into or through U.S. noninfested areas to be: (1) Accompanied by a Canadian phytosanitary certificate that includes an additional declaration confirming that the logs and pulpwood have been inspected and found free of gypsy moth or have been treated; ² or (2) destined for a specified U.S. processing plant or mill that is operating under a compliance agreement with APHIS for specified handling or processing.

¹ Except articles being moved through gypsy moth free areas in the counties of Aroostock, Franklin, Oxford, Piscataquis, Penobscot, and Somerset in Maine. Regulated articles are allowed to transit these areas en route to infested areas in the United States without phytosanitary certificates.

² Logs and pulpwood with bark attached may transit noninfested areas in the counties of Aroostock, Franklin, Oxford, Piscataquis, Penobscot, and Somerset in the State of Miane en route to infested areas in the United States without phytosanitary certficiates.

Therefore, this rule will affect entities engaged in the international movement of regulated articles from Canada into the United States. The restrictions primarily affect those entities that move trees without roots (e.g., Christmas trees), trees with roots, shrubs with roots and persistent woody stems, logs and pulpwood with bark attached, outdoor household articles, and mobile homes and their associated equipment from Canadian infested areas into or through U.S. noninfested areas. However, because of this rule's certification of origin requirement, entities moving regulated articles into or through U.S. noninfested areas from noninfested areas of Canada are also affected to a limited extent.

This rule requires the issuance of some new phytosanitary certificates, but we expect that it will be a relatively small number. This is because all trees with roots and shrubs with roots and persistent woody stems imported from Canada into the United States are already required to obtain a Canadian phytosanitary certificate under the regulations at 7 CFR 319.37. This rule simply requires an additional declaration to that certificate, not a new certificate, for those products moving from a Canadian infested area to a U.S. noninfested area. Likewise, trees without roots (e.g., Christmas trees), logs with bark attached, and pulpwood with bark attached that are imported from Canada do not need a phytosanitary certificate if they are either: (1) Moved from a Canadian noninfested area to a U.S. noninfested area; (2) moved from a Canadian noninfested area to a U.S. infested area; (3) moved from a Canadian infested area to a U.S. infested area; or (4) moved from any area of Canada to a specified U.S. processing plant or mill operating under a compliance agreement with APHIS for specified handling or processing. The only commodities that will need a Canadian phytosanitary certificate under this rule are trees without roots, logs with bark attached, and pulpwood with bark attached that are moving from a Canadian infested area to a U.S. noninfested area and that are not destined for a specified U.S. processing plant or mill under compliance agreement with APHIS for specified handling or processing.

The information we have concerning the costs of Canadian phytosanitary certificates is for greenhouse products. Canadian phytosanitary certificates for greenhouse products require processing time, in addition to an inspection cost of $15 to $30, and a $5 fee per shipment (shown in Canadian dollars; these amounts are equivalent to $10, $20, and $3.26, respectively, in U.S. dollars). We expect phytosanitary certificates issued for the products affected by this rule to have similar costs. We estimate that, as a result of this rule, 100 shipments per year will require Canadian phytosanitary certificates, resulting in total inspection costs averaging approximately $2,326 (U.S. dollars) per year. However, we do not have information on the number and size of entities in Canada and the United States that will be affected by this rule.

This rule also requires the issuance of certifications of origin. The certification of origin is a new requirement for regulated articles moving from Canadian noninfested areas to U.S. noninfested areas. The certification of origin must state where the articles were produced or grown. Since the certifications can be made by exporters themselves, this requirement will not result in any additional costs.

This rule also requires individual and commercial movers of outdoor household articles, including recreational vehicles and mobile homes and their associated equipment moving from infested areas of Canada into noninfested areas of the United States to provide a statement signed by the owner that the articles have been inspected and found free of gypsy moth. The use of self-inspections should minimize the costs associated with the importation of these items. Most individual homeowners who reside in areas of the United States quarantined because of gypsy moth and who move their own articles currently choose to self-inspect and issue the signed statement for the movement of their outdoor household articles. This process takes a few minutes for each item and involves no monetary cost unless treatment is necessary. For commercial movers, self-issuing documents could help avoid the costs of delays, but could still result in costs associated with time, salary, and recordkeeping for the self-inspections.

When inspection reveals the presence of gypsy moth, the individual in possession of the infested articles must either return the articles to their place of origin, treat them, or destroy them. Loads of trees without roots (e.g., Christmas trees), trees with roots, shrubs with roots and persistent woody stems, or logs would be an expensive loss if destroyed, which would occur if the shipper decided against the alternatives (i.e., return to Canada or treatment). Fumigation is one treatment alternative, but another—manually spraying caterpillars and scraping egg masses—is a less costly treatment alternative. Either treatment is usually done by qualified, certified applicators. In applications in the United States, fumigation costs average between $100 to $150 per shipment. Manual treatment would be considerably less expensive. We do not know at the current time how many entities will be affected by these treatment requirements.

Other costs of implementing this rule involve border crossings. This rule will add time to border crossings because it will be necessary to ascertain whether a recreational vehicle or mobile home is coming from an area of Canada known to be infested with gypsy moth or an area free of gypsy moth. There are no data on the number of recreational vehicles and mobile homes crossing the border from Victoria, British Columbia, or from other infested areas of Canada. When primary U.S. Customs Service and Immigration and Naturalization Service inspectors question the origin of all recreational vehicles and mobile homes crossing into the United States and distribute information on gypsy moth to their owners, only a few seconds will be added to each border crossing. However, with potentially several thousand daily crossings of recreational vehicles from all areas of Canada at peak times, this added time could result in some delays. Some of the recreational vehicles and mobile homes originating in Canadian infested areas, as well as those owners who are unsure of origin and others at the discretion of the primary inspectors, will be sent to secondary inspection, where APHIS inspectors will ensure that owners understand the need to inspect their recreational vehicles and mobile homes for the presence of gypsy moth. Depending on the number of recreational vehicles and mobile homes sent to secondary inspections, there may be a need for additional staff at border crossings.

The inspection and certification requirements of this rule are expected to cause a slight increase in the costs of business for a limited number of affected entities, but the overall effect on price and competitiveness is expected to be relatively insignificant. Additionally, we believe that any increase in costs experienced by entities as a result of this rule will be very small when compared to the benefits. The benefits of this rule include the avoidance of Federal, State, and local government costs and damages to forest resources resulting from a widespread gypsy moth outbreak in noninfested areas of the United States.

Alternatives Considered

The alternative to the interim rule (as amended by this final rule) that we considered was to make no changes in the regulations, instead relying on border inspections and the Canadian gypsy moth program to prevent the entry of gypsy moth into noninfested areas of the United States from infested areas of Canada. We rejected this alternative after determining that these measures would likely prove to be an inadequate response to the risk posed by gypsy moth host material entering the United States from Canada.

This rule contains information collection requirements, which have been approved by the Office of Management and Budget (see “Paperwork Reduction Act” below).

Paperwork Reduction Act

In accordance with the Paperwork Reduction Act of 1995 (44 U.S.C. 3501 et seq.), the information collection or recordkeeping requirements included in this rule have been approved by the Office of Management and Budget (OMB) under OMB control number 0579-0142.

List of Subjects in 7 CFR Part 319

Bees, Coffee, Cotton, Fruits, Honey, Imports, Nursery stock, Plant diseases and pests, Quarantine, Reporting and recordkeeping requirements, Rice, Vegetables.

Accordingly, the interim rule amending 7 CFR part 319 which was published at 64 FR 45860-45868 on August 23, 1999, is adopted as a final rule with the following changes:

PART 319—FOREIGN QUARANTINE NOTICES

1. The authority citation for part 319 continues to read as follows:

Authority: 7 U.S.C. 150dd, 150ee, 150ff, 151-167, 450, 2803, and 2809; 21 U.S.C. 136 and 136a; 7 CFR 2.22, 2.80, and 371.2(c).

2. In § 319.77-1, the definition for “Certificate of origin” is removed, and a definition for “Certification of origin” is added to read as follows.

§ 319.77-1 Definitions

* * * * *

Certification of origin. A signed, accurate statement certifying the area in which a regulated article was produced or grown. The statement may be provided directly on the shipping documents accompanying shipments of commercial wood products from Canada, or may be provided on a separate certificate.

* * * * *

3. Section 319.77-3 is revised to read as follows:

§ 319.77-3 Gypsy moth infested areas in Canada.

The following areas in Canada are known to be infested with gypsy moth:

(a) Province of British Columbia. (1) That portion of the Highlands Land District within 1 kilometer of the intersection of Willis Point Road and Mark Lane; and

(2) That portion of the Highlands Land District within 1 kilometer of the intersection of Burkin Drive and Munns Road; and

(3) That portion of Quamichaan Land District within 1 kilometer of the intersection of Sherman Road and Grieve Road; and

(4) That portion of Lake Land District within 1 kilometer of the intersection of West Burnside Road and Helmeken Road.

(b) Province of New Brunswick. (1) Charlotte County. That portion of Charlotte County that includes the following parishes: Campobello Island, Dumbarton, Dufferin, Grand Manan Island, St. Andrews, St. Croix, St. David, St. George, St. James, St. Patrick, and St. Stephen.

(2) Kings County. That portion of Kings County that includes the following parishes: Greenwich, Kars, and Springfield.

(3) Queens County. (i) That portion of Queens County that includes the following parishes: Canning, Cambridge, Gagetown, Johnston, and Wickham; and

(ii) That portion of Chipman Parish south or west of highway 10; and

(iii) That portion of Waterborough Parish west of highway 10 and south of highway 2.

(4) Sunbury County. That portion of Sunbury County that includes the following parishes: Blissville, Burton, Gladstone, Lincoln, and Sheffield.

(5) York County. (i) That portion of York County that includes the City of Fredericton and the following parishes: North Lake and McAdam; and

(ii) That portion of Queensbury parish south and east of the Scotch Lake Road beginning in the west at Bear Island on the St. John River and ending at the Parish border on the east.

(c) Province of Nova Scotia. (1) Annapolis County. The entire county.

(2) Digby County. The entire county.

(3) Halifax County. The area of the county bounded by a line beginning at the intersection of the Halifax/Lunenburg County border and the Atlantic Ocean; then north along the Halifax/Lunenburg County border to the Halifax/Hants County border; then east along the Halifax/Hants County border to route 354; then south along route 354 to route 568 (Beaverbank-Windsor Junction Road); then east along route 568 (Beaverbank-Windsor Junction Road) to route 416 (Fall River Road); then east and north along route 416 (Fall River Road) to route 2; then south along route 2 to route 102/118; then south along route 118 to route 107; then south along route 107 to route 7; then east along route 7 to route 328; then south along route 328 to the shoreline of Cole Harbour; then west along the seashore from Cole Harbour to the point of beginning.

(4) Hants County. The area of the county bounded by a line beginning at the intersection of the Hants/Kings County border and the shoreline of the Minas Basin; then southwest along the Hants/Kings County border to the Hants/Lunenburg County border; then southeast along the Hants/Lunenburg County border to the Hants/Halifax County border; then east along the Hants/Halifax County border to route 354; then north along route 354 to the Minas Basin; then west along the shoreline of the Minas Basin to the point of beginning.

(5) Kings County. The entire county.

(6) Lunenberg County. The entire county.

(7) Queens County. The entire county.

(8) Shelburne County. The entire county.

(9) Yarmouth County. The entire county.

(d) Province of Ontario. (1) That portion of the Province of Ontario that includes the following counties and regional municipalities: Brant, Bruce, Dufferin, Durham, Elgin, Essex, Frontenac, Grey, Haldimand-Norfolk, Haliburton, Halton, Hamilton-Wentworth, Hastings, Huron, Kent, Lambton, Lanark, Leeds-Granville, Lennox-Addington, Middlesex, Muskoka, Niagara, Northumberland, Ottawa-Carleton, Oxford, Parry Sound, Peel, Perth, Peterborough, Prescott-Russell, Prince Edward, Renfrew, Simcoe, Stormont-Dundas-Glengarry, Victoria, Waterloo, Wellington, and York; and

(2) That portion of Algoma District that includes the City of Sault Ste. Marie and the following townships: Bright, Bright Additional, Cobden, Denis, Garden River First Nation, Indian Reserve #7, Johnson, Korah, Laird, Lefroy, Lewis, Long, MacDonald, Parke, Plummer Additional, Prince, Tarbutt, Tarbutt Additional, Tarentorus, Thessalon, Thompson, Shedden, Spragge, and Striker; and

(3) That portion of Algoma District south of Highway 17 and east of the City of Sault Ste. Marie; and

(4) That portion of Manitoulin District that includes: Cockburn Island, Great Cloche Island, Manitoulin Island, St. Joseph Island, and all Indian Reserves; and

(5) That portion of Nipissing District that includes the City of North Bay; and

(6) That portion of Nipissing District south of the Ottawa and Mattawa rivers; and

(7) That portion of Nipissing District south of highway 17 and west of the City of North Bay; and

(8) That portion of Sudbury District that includes the City of Sudbury and the townships of Baldwin, Dryden, Dunlop, Graham, Hallam, Hymen, Indian Reserves #4, #5, and #6, Lorne, Louise; May, McKim, Nairn, Neelon, Porter, Salter, Shakespeare, Victoria, and Waters; and

(9) That portion of the Sudbury District south of Highway 17.

(e) Province of Quebec. (1) That portion of the Province of Quebec that includes the following regional county municipalities: Acton, Arthabaska, Asbestos, Beauce-Sartigan, Beauharnois-Salaberry, Bécancour, Bellechasse, Brome-Missisquoi, Champlain, Coaticook, Communauté Urbaine de Montréal, Communauté Urbaine de L'Outaouais, D'Autray, Desjardins, Deux-Montagnes, Drummond, Francheville, Joliette, L'Amiante, L'Assomption, L'Érable, L'île-d'Orléans, Lajemmerais, Laval, La Nouvelle-Beauce, La Rivière-du-Nord, La Vallée-du-Richelieu, Le Bas-Richelieu, Le Granit, Le Haut-Richelieu, Le Haut-Saint-Francois, Le Haut-Saint-Laurent, Le Haute-Yamaska, Le Val-Saint-Francois, Les Chutes-de-la-Chaudire, Les Collines-de-L'Outaouais, Les Etchemins, Les Jardins-de-Napierville, Les Maskoutains, Les Moulins, Lotbinière, Memphrémagog, Mirabel, Montcalm, Montmagny, Nicolet-Yamaska, Robert-Cliche, Roussillon, Rouville, Sherbrooke, Therese-de Blainville, and Vaudreuil-Soulanges; and

(2) That portion of the regional county municipality of Antoine-Llabelle that includes the following municipalities: Notre-Dame-du-Laus, Notre-Dame-de-Pontmain, and Saint-Aimé-du-Lac-des-Iles; and

(3) That portion of the regional county municipality of Argenteuil that includes the following municipalities: Brownsburg, Calumet, Carillon, Chatham, Grenville, Lachute, Saint-André-d'Argenteuil, and Saint-André-Est; and

(4) That portion of the regional county municipality of Communauté Urbaine De Québec that includes the following municipalities: Cap-Rouge, L'Ancienne-Lorette, Québec, Saint-Augustin-de-Desmaures, Sainte-Foy, Sillery, and Vanier; and

(5) That portion of the regional county municipality of La Vallée-de-la-Gatineau that includes the following municipalities: Denholm, Gracefield, Kazabazua, Lac-Sainte-Marie, Low, Northfield, and Wright; and

(6) That portion of the regional county municipality of Le Centre-de-la-Mauricie that includes the following municipalities: Charette, Notre-Dame-du-Mont-Carmel, Sainte-Elie, Shawinigan, and Shawinigan (Sud); and

(7) That portion of the regional county municipality of Les Laurentides that includes the following municipality: La Conception; and

(8) That portion of the regional county municipality of Les Pays-d'en-Haut that includes the following municipality: Mont-Rolland; and

(9) That portion of the regional county municipality of Maskinongé that includes the following municipalities: Louiseville, Maskinongé, Saint-Joseph-de-Maskinongé, Saint-Barnabé, Saint-Sévère, Saint-Léon-le-Grand, Saint-Paulin, Sainte-Ursule, Saint-Justin, Saint-Édouard-de-Maskinongé, Sainte-Angèle-de-Prémont, and Yamachiche; and

(10) That portion of the regional county municipality of Matawinie that includes the following municipalities: Saint-Félix-de-Valois, Saint-Jean-de-Matha, Rawdon, and Chertsey; and

(11) That portion of the regional county municipality of Papineau that includes the following municipalities: Fassett, Lochaber, Lochaber-Partie-Ouest, Mayo, Montebello, Montpellier, Mulgrave-et-Derry, Notre-Dame-de-Bon-Secours-Partie-Nord, Papineauville, Plaisance, Ripon (Village et Canton), Saint-André-Avellin (Village et Paroise), Sainte-Angélique, Saint-Sixte, and Thurso; and

(12) That portion of the regional county municipality of Pontiac that includes the following municipalities: Bristol, Shawville, Clarendon, Portage-du-Fort, Bryson, Campbell's Bay, Grand-Calumet, Litchfield, Thorne, Alleyn-et-Cawood, Leslie-Clapham-et-Huddersfield, Fort-Coulonge, Mansfield-et-Pontefract, Waltham-et-Bryson, L'Isle-aux-Allumettes-Partie-Est, Chapeau, L'Isle-aux-Allumettes, Chichester, Sheen-Esher-Aberdeen-et-Malakoff, and Rapides-des-Joachims; and

(13) That portion of the regional county municipality of Portneuf that includes the following municipalities: Cap-Santé, Deschambault, Donnacona, Grondines, Neuville, and Pointe-aux-Trembles.

4. Section 319.77-4 is amended as follows:

a. By revising the introductory text of paragraph (a) and paragraph (a)(1).

b. In paragraph (a)(2)(ii), by removing the word “certificate” and adding the word “certification” in its place.

c. By revising the heading for paragraph (b), paragraph (b)(1), and footnote 2.

d. In paragraph (b)(2)(ii), by removing the word “certificate” and adding the word “certification” in its place.

§ 319.77-4 Conditions for the importation of regulated articles.

(a) Trees and shrubs.¹ (1) Trees without roots (e.g., Christmas trees), trees with roots, and shrubs with roots and persistent woody stems may be imported into the United States from any area of Canada without restriction under this subpart if they:

¹ Trees and shrubs from Canada that are capable of propagation may be subject to additional restrictions under “Subpart—Nursery Stock, Plants, Roots, Seeds, and Other Plant Products” (§§ 319.37 through 319.37-14 of this part).

(i) Were greenhouse-grown throughout the year;

(ii) Are destined for a U.S. infested area and will not be moved through any U.S. noninfested areas; or

(iii) Are Christmas trees destined for a U.S. infested area and will not be moved through any U.S. noninfested areas other than noninfested areas in the counties of Aroostock, Franklin, Oxford, Piscataquis, Penobscot, and Somerset, ME (i.e., areas in those counties that are not listed in 7 CFR 301.45-3).

* * * * *

(b) Logs and pulpwood with bark attached.² (1) Logs or pulpwood with bark attached that are destined for a U.S. infested area and that will not be moved through any U.S. noninfested area other than noninfested areas in the counties of Aroostock, Franklin, Oxford, Piscataquis, Penobscot, and Somerset, ME (i.e., areas in those counties that are not listed in 7 CFR 301.45-3) may be imported from any area of Canada without restriction under this subpart.

² Logs from Canada are also subject to restrictions under “Subpart—Logs, Lumber, and Other Unmanufactured Wood Articles” (§§ 319.40 through 319.40-11 of this part).

* * * * *

Done in Washington, DC, this 14th day of June 2000.
Richard L. Dunkle,
Acting Administrator, Animal and Plant Health Inspection Service.

[FR Doc. 00-15470 Filed 6-19-00; 8:45 am]

BILLING CODE 3410-34-U